Title 3—

The President

Proclamation 8228 of March 28, 2008

To Modify the Harmonized Tariff Schedule of the United States and for Other Purposes

By the President of the United States of America

A Proclamation

1. Section 1205(a) of the Omnibus Trade and Competitiveness Act of 1988 (the “1988 Act”) (19 U.S.C. 3005(a)) directs the United States International Trade Commission (the “Commission”) to keep the Harmonized Tariff Schedule of the United States (HTS) under continuous review and periodically to recommend to the President such modifications to the HTS as the Commission considers necessary or appropriate to accomplish the purposes set forth in that subsection. In 2006, the Commission recommended modifications to the HTS pursuant to section 1205 of the 1988 Act to conform the HTS to amendments made to the International Convention on the Harmonized Commodity Description and Coding System (the “Convention”). In Presidential Proclamation 8097 of December 29, 2006, I modified the HTS pursuant to section 1206(a) of the 1988 Act (19 U.S.C. 3006(a)) to conform the HTS to the Convention.

2. The Commission has recommended further modifications to the HTS pursuant to sections 1205(a) and (d) of the 1988 Act (19 U.S.C. 3005(a) and (d)) to alleviate unnecessary administrative burdens, and to ensure that the prior modifications proclaimed in Proclamation 8097 maintain substantial rate neutrality.

3. Section 1206(a) of the 1988 Act authorizes the President to proclaim modifications to the HTS based on the recommendations of the Commission under section 1205 of the 1988 Act, if he determines that the modifications are in conformity with United States obligations under the Convention and do not run counter to the national economic interest of the United States. I have determined that the modifications to the HTS proclaimed in this proclamation pursuant to section 1206(a) of the 1988 Act are in conformity with United States obligations under the Convention and do not run counter to the national economic interest of the United States.

4. Presidential Proclamation 7746 of December 30, 2003, implemented the United States-Chile Free Trade Agreement with respect to the United States, and Presidential Proclamation 7747 of December 30, 2003, implemented the United States-Singapore Free Trade Agreement with respect to the United States. In Presidential Proclamation 8097, I proclaimed modifications to the HTS that I determined were necessary or appropriate to continue to carry out the duty reductions proclaimed in Proclamations 7746 and 7747.

5. In Presidential Proclamation 8214 of December 27, 2007, I further modified the HTS pursuant to section 1206(a) of the 1988 Act to ensure the continuation of tariff and certain other treatment accorded originating goods under tariff categories modified in Proclamation 8097 and to carry out the duty reductions proclaimed in Proclamations 7746 and 7747. Technical rectifications to the HTS are required to provide the intended tariff treatment.

6. On August 5, 2004, the United States entered into the Dominican Republic-Central America-United States Free Trade Agreement (CAFTA-DR) with Costa Rica, the Dominican Republic, El Salvador, Guatemala, Honduras, and Nicaragua. The Congress approved the CAFTA-DR in section 101(a) of the Dominican Republic-Central America-United States Free Trade Agreement Implementation Act (the “CAFTA-DR Act”) (19 U.S.C. 4011).

7. Sections 321-328 of the CAFTA-DR Act (19 U.S.C. 4081-4088) authorize the President to take certain actions in response to a request by an interested party for relief from serious damage or actual threat thereof to a domestic industry producing certain textile or apparel articles. I assigned certain functions under these provisions to the Committee for the Implementation of Textile Agreements (CITA) in Proclamation 7987 of February 28, 2006.

8. Executive Order 11651 of March 3, 1972, as amended, established CITA, consisting of representatives of the Departments of State, the Treasury, Commerce, and Labor, and the Office of the United States Trade Representative, with the representative of the Department of Commerce as Chairman, to supervise the implementation of textile trade agreements. Consistent with 3 U.S.C. 301, when carrying out functions vested in the President by statute and assigned by the President to CITA, the officials collectively exercising those functions are all to be officers required to be appointed by the President with the advice and consent of the Senate.

9. Section 604 of the Trade Act of 1974, as amended (the “Trade Act”) (19 U.S.C. 2483), authorizes the President to embody in the HTS the substance of the provisions of that Act, and of other Acts affecting import treatment, and actions thereunder, including removal, modification, continuance, or imposition of any rate of duty or other import restriction.

NOW, THEREFORE, I, GEORGE W. BUSH, President of the United States of America, acting under the authority vested in me by the Constitution and the laws of the United States of America, including but not limited to section 1206 of the 1988 Act, sections 321-328 of the CAFTA-DR Act, section 301 of title 3, United States Code, and section 604 of the Trade Act do proclaim that:

(1) In order to modify the HTS to conform it to the Convention or any amendment thereto recommended for adoption, to promote the uniform application of the Convention, to establish additional subordinate tariff categories, and to make technical and conforming changes to existing provisions, the HTS is modified as set forth in Annex I to this proclamation.

(2) In order to provide the intended tariff treatment to imports of originating goods from Chile, the HTS is modified as set out in section A of Annex II to this proclamation.

(3) In order to provide the intended tariff treatment to imports of originating goods from Singapore, the HTS is modified as set out in section B of Annex II to this proclamation.

(4) The CITA is authorized to exercise my authority under sections 321-328 of the CAFTA-DR Act to provide relief from imports that are the subject of a determination under section 322(a) of the CAFTA-DR Act, to the extent necessary to remedy or prevent serious damage and to facilitate adjustment by the domestic industry.

(5) The United States Trade Representative shall modify the HTS in a notice published in the Federal Register to reflect determinations pursuant to paragraph (4) of this proclamation by the CITA.

(6) Any provisions of previous proclamations and Executive Orders that are inconsistent with the actions taken in this proclamation are superseded to the extent of such inconsistency.

(7) The modifications to the HTS set forth in Annex I and Annex II to this proclamation shall be effective with respect to goods entered, or withdrawn from warehouse for consumption, on or after the respective dates specified in each section of such Annexes for the goods described therein.

IN WITNESS WHEREOF, I have hereunto set my hand this twenty-eighth day of March, in the year of our Lord two thousand eight, and of the Independence of the United States of America the two hundred and thirty-second.

Billing code 3195-01-P

[FR Doc. 08-1091

Filed 4-1-08; 8:44 am]

Billing code 7020-02-P-C